SMALL BUSINESS ADMINISTRATION

[License No. 05050305]

High Street Capital IV SBIC, L.P.; Surrender of License of Small Business Investment Company

Pursuant to the authority granted to the United States Small Business Administration under section 309 of the Small Business Investment Act of 1958, as amended, and 13 CFR 107.1900 of the Code of Federal Regulations to function as a small business investment company under the Small Business Investment Company 05050305 issued to High Street Capital IV SBIC, L.P., said license is hereby declared null and void.

Paul Salgado,
Director, Office of Investment and Innovation, United States Small Business Administration.

[FR Doc. 2025-09331 Filed 5-22-25; 8:45 am]

BILLING CODE P